DEPARTMENT OF ENERGY

Federal Energy Regulatory Commission

[Project No. P 11797-000]

Grande Pointe Power Corporation; Notice of Availability of Environmental Assessment

November 8, 2002.

In accordance with the National Environmental Policy Act of 1969 and the Federal Energy Regulatory Commission (Commission or FERC) regulations contained in the Code of Federal Regulations (CFR) (18 CFR part 380 [FERC Order No. 486, 52 FR 47897]), the Office of Energy Projects staff (staff) reviewed the application for an original minor license for the Three Rivers Project, located on the St. Joseph River in the city of Three Rivers, St. Joseph County, Michigan, and has prepared an environmental assessment (EA) for the project. In this EA, the staff has analyzed the potential environmental effects of the existing project and concluded that licensing the project, with staff's recommended measures, would not constitute a major Federal action significantly affecting the quality of the human environment.

A copy of the EA is available for review at the Commission in the Public Reference Room, or it may be viewed on the Commission's Web site at http://www.ferc.gov using the “FERRIS” link. For assistance, contact FERC Online Support at FERCOnlineSupport@ferc.gov or toll-free at (866)208-3676, or for TTY,contact (202)502-8659.

Any comments should be filed within 45 days from the date of this notice and should be addressed to Magalie R. Salas, Secretary, Federal Energy Regulatory Commission, 888 First Street, NE., Washington, DC 20426. Please affix “Three Rivers Project No. 11797-000,” to all comments. For further information, please contact Sean Murphy at (202) 502-6145 or at sean.murphy@ferc.gov.

Comments may be filed electronically via the Internet in lieu of paper. See 18 CFR 385.2001(a)(1)(iii) and the instructions on the Commission's Web site at http://www.ferc.gov under the “e-Filing” link. The Commission strongly encourages electronic filings.

Magalie R. Salas,
Secretary.

[FR Doc. 02-29139 Filed 11-15-02; 8:45 am]

BILLING CODE 6717-01-P